DEPARTMENT OF EDUCATION

[CFDA No.: 84.235Q]

Special Demonstration Programs—Model Demonstration Projects—Mentoring for Transition-Age Youth and Young Adults With Disabilities; Notice Inviting Applications for New Awards for Fiscal Year (FY) 2003

Purpose of Program: To provide financial assistance to projects that expand and improve the provision of rehabilitation and other services for individuals with disabilities. These model demonstration projects will focus on mentoring models that provide appropriate supports for transition-age youth and young adults with disabilities. The mentoring models developed under this program must incorporate effective, research-based mentoring methods. The model demonstration projects will test whether increases in meaningful postsecondary education and quality employment outcomes can be achieved through the use of mentors by State vocational rehabilitation (VR) agencies.

Eligible Applicants: State VR agencies.

Supplementary Information: Funds under this competition will be used to support projects in FY 2003. Along with other authorized activities, funds may be used for the payment of mentors. In FY 2004, the Assistant Secretary may consider funding high-quality applications submitted in FY 2003, but not funded in FY 2003.

Applications Available: August 5, 2003.

Deadline for Transmittal of Applications: September 4, 2003.

Estimated Available Funds: $750,000.

Estimated Range of Awards: $150,000-$200,000.

Estimated Average Size of Awards: $185,000.

Estimated Number of Awards: 4.

Note: The Department is not bound by any estimates in this notice.

Project Period: 60 months.

Page Limit: The application narrative (Part III of the application) is where you, the applicant, address the selection criteria that reviewers use to evaluate your application. It is suggested that you limit Part III to 35 pages.

Applicable Regulations: (a) The Education Department General Administrative Regulations (EDGAR) in 34 CFR parts 74, 75, 77, 79, 80, 81, 82, 85, 97, and 99. (b) The regulations for this program in 34 CFR part 373.

Selection Criteria: In evaluating an application for a new grant under this competition, we use selection criteria developed in accordance with 34 CFR 75.209 or chosen from the general selection criteria in 34 CFR 75.210 or a combination of both. The selection criteria to be used for this competition will be provided in the application package for this competition.

Priorities

Model Demonstration Projects—Mentoring for Transition-Age Youth and Young Adults With Disabilities

It is the policy of the Department of Education not to solicit applications before the publication of final priorities. However, in this case it is essential to solicit applications on the basis of the notice of proposed priority, definitions, and application requirements published elsewhere in this issue of the Federal Register, because the Department's authority to obligate these funds will expire on September 30, 2003. Applicants should base their applications on the proposed priority, definitions, and application requirements. If changes are made in the final notice in response to public comments or other considerations, applicants will be given an opportunity to revise or resubmit their applications.

For FY 2003, this priority is an absolute priority. Under 34 CFR 75.105(c)(3) we consider only applications that meet the priority, definitions, and application requirements.

Invitational Priority

We are particularly interested in applications that meet the following invitational priority.

Projects of Collaboration Between State VR Agencies and Consumer-Controlled, Membership Organizations Focusing on Mentoring for Transition-Age Youth and Young Adults With Disabilities

We are interested in projects that foster collaborative working relationships between State VR agencies and consumer-controlled, membership organizations in order to demonstrate whether research-based mentoring methods can be effective in increasing meaningful community integration, postsecondary education, and employment outcomes.

A consumer-controlled, membership organization is an entity—(a) With a constitution or bylaws, or both, that detail the operational structure of the organization, including membership classes and dues to be paid by members of each class; (b) that may not be merely a social organization but must actively promote the integration and full inclusion of individuals with disabilities into the mainstream of American society; and (c) of which the majority of the officers and a majority of the membership are individuals with disabilities.

Under 34 CFR 75.105(c)(1) we do not give an application that meets this invitational priority competitive or absolute preference over other applications.

For Applications Contact: Education Publications Center (ED Pubs), P.O. Box 1398, Jessup, MD 20794-1398. Telephone (toll free): 1-877-433-7827. FAX: (301) 470-1244. If you use a telecommunications device for the deaf (TDD), you may call (toll free): 1-877-576-7734. You may also contact ED Pubs via its Web site: http://www.ed.gov/pubs/edpubs.html. Or you may contact ED Pubs at its e-mail address: edpubs@inet.ed.gov.

If you request an application from ED Pubs, be sure to identify this competition as follows: CFDA number 84.235Q.

Individuals with disabilities may obtain a copy of the application package in an alternative format by contacting the Grants and Contracts Services Team, U.S. Department of Education, 400 Maryland Avenue, SW., room 3317, Switzer Building, Washington, DC 20202-2550. Telephone: (202) 205-8207. If you use a telecommunications device for the deaf (TDD), you may call the Federal Information Relay Service (FIRS) at 1-800-877-8339. However, the Department is not able to reproduce in an alternative format the standard forms included in the application package.

FOR FURTHER INFORMATION CONTACT: Alfreda Reeves, U.S. Department of Education, 400 Maryland Avenue, SW., room 3314, Switzer Building, Washington, DC. 20202-2650. Telephone: (202) 205-9361. If you use a telecommunications device for the deaf (TDD), you may call the Federal Information Relay Service (FIRS) at 1-800-877-8339.

Individuals with disabilities may obtain this notice in an alternative format (e.g., Braille, large print, audiotape, or computer diskette) on request to the program contact person listed in the preceding paragraph.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 29 U.S.C. 773(b).

Dated: July 31, 2003.
Robert H. Pasternack,
Assistant Secretary for Special Education and Rehabilitative Services.

[FR Doc. 03-19875 Filed 8-4-03; 8:45 am]

BILLING CODE 4000-01-P